SECURITIES AND EXCHANGE COMMISSION

[File No. 500-1]

BluePoint Linux Software Corp., China Bottles Inc., Long-e International, Inc., and Nano Superlattice Technology, Inc.; Order of Suspension of Trading

February 2, 2012.

It appears to the Securities and Exchange Commission that there is a lack of current and accurate information concerning the securities of BluePoint Linux Software Corp. because it has not filed any periodic reports since the period ended June 30, 2007.

It appears to the Securities and Exchange Commission that there is a lack of current and accurate information concerning the securities of China Bottles, Inc. because it has not filed any periodic reports since the period ended June 30, 2008.

It appears to the Securities and Exchange Commission that there is a lack of current and accurate information concerning the securities of Long-e International, Inc. because it has not filed any periodic reports since the period ended June 30, 2008.

It appears to the Securities and Exchange Commission that there is a lack of current and accurate information concerning the securities of Nano Superlattice Technology, Inc. because it has not filed any periodic reports since the period ended June 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 2, 2012, through 11:59 p.m. EST on February 15, 2012.

By the Commission.
Elizabeth M. Murphy,
Secretary.

[FR Doc. 2012-2688 Filed 2-2-12; 11:15 am]

BILLING CODE 8011-01-P